DEPARTMENT OF THE INTERIOR

National Park Service

Environmental Assessment for Managing Flight Obstructions to Preserve Safety at Andrews Air Force Base

AGENCY: National Park Service, Interior.

ACTION: Notice of availability of environmental assessment.

SUMMARY: Pursuant to the National Environmental Policy Act (NEPA), Council on Environmental Quality regulations, U.S. Air Force (USAF) and National Park Service (NPS) guidance and requirements, the USAF Air Mobility Command and the NPS have prepared an environmental assessment (EA), and other environmental documentation evaluating environmental impacts potentially resulting from implementation of vegetation management plans for managing trees which are flight obstructions affecting the safety of flight operations at Andrews Air Force Base (AFB). USAF is the lead agency for this EA, and the NPS intends to adopt this EA. These trees are primarily located on Andrews Air Force Base and within the Suitland Parkway, a park area administered by the NPS—National Capital Region, National Capital Parks—East. The Parkway is located on the National Register of Historic Places. The proposed action occurs in Prince George's County, Maryland.

Copies of these documents are available for public review at the following locations, and by request to the NPS at (202) 690-5185:

The Prince George's County Public Library, 14741 Governor Oden Drive, Upper Marlboro, MD 20772, (301) 952-3904.

Andrews Air Force Base Library, 1642 Brookley & D Street, Andrews AFB, MD 20762.

There is a 30 day public review period for comment on the EA and associated documents. Comments should be received no later than 30 calendar days from the publication date of this notice. The NPS will consider all comments submitted to the address below. Comments should be sent to: Andrews Air Force Base, EA, HQ AMC/CEV, 507 Symington Dr., Scott AFB, IL 62225-5022, Fax: (818) 229-0257, E-mail: AMC.CEV@scott.af.mil.

SUPPLEMENTARY INFORMATION: The USAF identified a need to manage trees which adversely affect safe flight operations at Andrews AFB in Prince George's County, Maryland. Andrews AFB is home to the 89th Airlift Wing and provides worldwide airlift and logistical support of the President of the United States, the Vice President, cabinet members, and other high-ranking United States and foreign officials. Many of the trees requiring management are located on the NPS’ Suitland Parkway which is listed on the National Register for Historic Places. Other trees requring management are located on Andrews AFB and on lands within an industrial park immediately north of Suitland Parkway and lands adjoining the southern base perimeter. This EA follows on a 2001 EA which analyzed emergency tree pruning to remove obstructions to the Andrews AFB West Runway.

The EA describes a no-action alternative (Alternative 1), a preferred alternative (Alternative 2) involving vegetation management to manage obstructions without reconfiguring the runways, and a third alternative (Alternative 3) involving reconfiguring the runways to reduce the severity of the required vegetation management. It also contains discussion of those alternatives which were considered but rejected. The USAF and NPS, in consultation with the Maryland Historic Trust, are in the process of complying with Section 106 of the National Historic Preservation Act. This EA, the USAF draft Finding of No Significant Impact/Finding of No Practicable Alternative (FONSI/FONPA), and the NPS draft Statement of Findings (SOF) are all available for review.

Edward F. Duffy, Jr.,
Acting Regional Director, National Capital Region.

[FR Doc. 03-988 Filed 1-15-03; 8:45 am]

BILLING CODE 4310-70-P